DEPARTMENT OF THE TREASURY

Submission for OMB Review; Comment Request

April 5, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 13, 2002 to be assured of consideration.

Internal Revenue Service

OMB Number: 1545-0096.

Form Number: IRS Forms 1042, 1042-S and 1042-T.

Type of Review: Extension.

Title: Form 1042: Annual Withholding Tax Return for U.S. Source Income of Foreign Persons; Form 1042-S: Foreign Person's U.S. Source of Income Subject to Withholding; and Form 1042-T: Annual Summary and Transmittal of Forms 1042-S.

Description: Form 1042 is used by withholding agents to report tax withheld at source on certain income paid to nonresident alien individuals, foreign partnerships, and foreign corporations to the IRS. Form 1042-S is used by withholding agents to report income and tax withheld to payees. A copy of each 1042-S is filed magnetically or with Form 1042 for information reporting purposes. The IRS uses the information to verify that the correct amount of tax has been withheld and paid to the United States. Form 1042-T is used by withholding agents to transmit Forms 1042-S to the IRS.

Respondents: Business or other for-profit, Individuals or households.

Estimated Number of Respondents/Recordkeepers: 22,000.

Estimated Burden Hours Per Respondent/Recordkeeper:

Form | Recordkeeping | Learning about the law or the form | Preparing the form | Copying assembling, and sending the form to the IRS
Form 1042 | 8 hr., 51 min. | 2 hr., 31 min. | 4 hr., 26 min. | 32 min.
Form 1042-S |  |  | 25 min.
Form 1042-T |  |  | 12 min.

Frequency of Response: Annually.

Estimated Total Reporting/Recordkeeping Burden: 1,030,980 hour.

Clearance Officer: Glenn Kirkland, Internal Revenue Service, Room 6411-03, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 02-8853 Filed 4-11-02; 8:45 am]

BILLING CODE 4830-01-P